NUCLEAR REGULATORY COMMISSION

[Docket No. 50-263]

Nuclear Management Company, LLC; Monticello Nuclear Generating Plant; Notice of Issuance of Renewed Facility; Operating License No. DPR-22; Record of Decision for an Additional 20-Year Period

Notice is hereby given that the U.S. Nuclear Regulatory Commission (the Commission) has issued Renewed Facility Operating License No. DPR-22 to Nuclear Management Company, LLC (licensee), the operator of the Monticello Nuclear Generating Plant (MNGP). Renewed Facility Operating License No. DPR-22 authorizes operation of MNGP by the licensee at reactor core power levels not in excess of 1775 megawatts thermal (600 megawatts electric) in accordance with the provisions of the MNGP renewed license and its Technical Specifications.

This notice also serves as the record of decision for the renewal of Facility Operating License No. DPR-22 for MNGP, Unit 1. As discussed in the final Supplemental Environmental Impact Statement (FSEIS) for MNGP, dated September 2006, the Commission has considered a range of reasonable alternatives that included generation from coal, natural gas, oil, coal-gasification, new nuclear, wind, solar, hydropower, geothermal, wood waste, municipal solid waste, other biomass-derived fuels, fuel cells, delayed retirement, utility-sponsored conservation, a combination of alternatives, and a no-action alternative. This range of alternatives was discussed in the Generic Environmental Impact Statement for License Renewal, Supplement 26 regarding Monticello Nuclear Generating Plant.

After weighing the environmental, economic, technical and other benefits of the facility against environmental costs and considering available alternatives, the Commission found that the adverse environmental impacts of license renewal are not so great that preserving the option of license renewal would be unreasonable. The Commission also has taken all practicable measures within its jurisdiction to avoid or minimize environmental harm in its decision to renew Facility Operating License No. DPR-22. No license conditions are imposed in connection with mitigation measures.

The MNGP plant is a Boiling Water Reactor located in Monticello, MN.

The application for the renewed license complied with the standards and requirements of the Atomic Energy Act of 1954, as amended (the Act), and the Commission's regulations. As required by the Act and the Commission's regulations in 10 CFR Chapter I, the Commission has made appropriate findings, which are set forth in the license. Prior public notice of the action involving the proposed issuance of the renewed license and of an opportunity for a hearing regarding the proposed issuance of the new license was published in the Federal Register on May 12, 2005 (70 FR 25117). For further details with respect to this action, see (1) Nuclear Management Company, LLC's license renewal application for Monticello Nuclear Generating Plant, dated March 16, 2005, as supplemented by letters dated through August 18, 2006; (2) the Commission's safety evaluation report (NUREG-1865), dated October 2006; (3) the licensee's updated safety analysis report; and (4) the Commission's final environmental impact statement (NUREG-1437, Supplement 26, for the Monticello Nuclear Generating Plant, dated September 19, 2006). These documents are available at the NRC's Public Document Room, One White Flint North, 11555 Rockville Pike, Rockville, Maryland 20852, and can be viewed from the NRC Public Electronic Reading Room at http://www.nrc.gov/reading-rm/adams.html.

Copies of Renewed Facility Operating License No. DPR-22, may be obtained by writing to the U.S. Nuclear Regulatory Commission, Washington, DC 20555-0001, Attention: Director, Division of License Renewal. Copies of the Monticello Nuclear Generating Plant Safety Evaluation Report (NUREG-1865) and the final environmental impact statement (NUREG-1437, Supplement 26) may be purchased from the National Technical Information Service, U.S. Department of Commerce, Springfield, Virginia 22161 (http://www.ntis.gov), (703) 605-6000, or Attention: Superintendent of Documents, U.S. Government Printing Office, P.O. Box 371954 Pittsburgh, PA 15250-7954 (http://www.gpoaccess.gov), (202) 512-1800. All orders should clearly identify the NRC publication number and the requestor's Government Printing Office deposit account number or VISA or MasterCard number and expiration date.

Dated at Rockville, Maryland, this 8th day of November 2006.
For The Nuclear Regulatory Commission.
Frank P. Gillespie,
Division Director, Division of License Renewal, Office of Nuclear Reactor Regulation.

[FR Doc. E6-19362 Filed 11-15-06; 8:45 am]

BILLING CODE 7590-01-P